DEPARTMENT OF HOMELAND SECURITY

Coast Guard

33 CFR Part 117

[Docket No. USCG-2013-0066]

Drawbridge Operation Regulation; James River, Between Isle of Wight and Newport News, VA

AGENCY: Coast Guard, DHS.

ACTION: Notice of deviation from drawbridge regulation.

SUMMARY: The Coast Guard has issued a temporary deviation from the operating schedule that governs the draw of the James River Draw Bridge across the James River, mile 5.0, between Isle of Wight and Newport News, VA. This deviation is necessary to facilitate generator replacement on the James River Draw Bridge. This temporary deviation will allow the drawbridge to remain in the closed-to-navigation position on specific dates and times.

DATES: This deviation is effective from 12:01 a.m. on February 16, 2013, until 5 a.m. on February 18, 2013; from 12:01 a.m. on February 23, 2013, until 5 a.m. on February 25, 2013; and from 12:01 a.m. on March 2, 2013, until 5 a.m. on March 4, 2013.

ADDRESSES: The docket for this notice, USCG-2013-0066, is available online at www.regulations.gov by typing in the docket number in the “SEARCH” box and clicking “SEARCH.” Next, click on the Open Docket Folder on the line associated with this notice. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Barbara Hairston, Program Manager, Docket Operations, 202-366-9826.

SUPPLEMENTARY INFORMATION: The Virginia Department of Transportation, who owns and operates this vertical lift bridge, has requested a temporary deviation from the current operating regulations set out in 33 CFR 117.5, to facilitate generator replacement on the structure.

Under the regular operating schedule, the James River Bridge, mile 5.0, between Isle of Isle and Newport News, VA opens on signal. The James River Bridge has vertical clearances in the open and closed position of 145 feet and 60 feet, above mean high water, respectively.

Under this temporary deviation, the drawbridge will be closed on weekends to navigation from 12:01 a.m. on February 16, 2013, until 5 a.m. on February 18, 2013; from 12:01 a.m. on February 23, 2013, until 5 a.m. on February 25, 2013; and from 12:01 a.m. on March 2, 2013 until 5 a.m. on March 4, 2013. If weather conditions are favorable during the first two weekends of the deviation, mariners will be notified via a broadcast notice to mariners and local media that the bridge will return to its regular operating schedule and that the third week of closure is no longer necessary.

Only emergency openings will be provided with up to a two-hour delay in opening. There are no alternate routes for vessels transiting this section of the James River.

The James River is used by a variety of vessels including freighters, tugs, and recreational vessels. The Coast Guard has carefully coordinated the restrictions with commercial and recreational waterway users. The Coast Guard will inform all users of the waterway through our Local and Broadcast Notice to Mariners of the closure periods for the bridge so that vessels can arrange their transits to minimize any impacts caused by the temporary deviation. Mariners able to pass under the bridge in the closed position may do so at any time. Mariners are advised to proceed with caution.

In accordance with 33 CFR 117.35(e), the drawbridge must return to its regular operating schedule immediately at the end of the effective period of this temporary deviation. This deviation from the operating regulations is authorized under 33 CFR 117.35.

Dated: February 5, 2013.
Waverly W. Gregory, Jr.,
Bridge Program Manager, Fifth Coast Guard District.

[FR Doc. 2013-03546 Filed 2-14-13; 8:45 am]

BILLING CODE 9110-04-P